DEPARTMENT OF HOUSING AND URBAN DEVELOPMENT

[Docket No. FR-7070-N-57]

30-Day Notice of Proposed Information Collection: Study of Child Care in Public Housing: PHA and ECE Center Interviews Data Collection, OMB Control No.: 2528-New

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 25, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov; telephone (202) 402-5535. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on March 10, 2023 at 88 FR 15061.

A. Overview of Information Collection

Title of Information Collection: Study of Child Care in Public Housing: PHA and ECE Center Interviews Data Collection.

OMB Approval Number: 2528-New.

Type of Request: New collection.

Form Number: N/A.

Description of the need for the information and proposed use: The purpose of this proposed information collection is to interview key stakeholders and HUD assisted families to support the Study of Childcare in Public Housing. This is a multi-site study including six Public Housing Authorities (PHAs) in three states.

Individual interviews will be conducted with key stakeholders and PHA residents in each of the six sites.¹ These interviews are key to our understanding of the Early Care and Education (ECE) needs, preferences, and use of families in PHA-owned housing. Furthermore, these interviews will help us better understand the barriers and facilitators to operating co-located PHA and ECE programs.

¹ Interviews with state-level stakeholders will primarily be conducted virtually. Interviews with site-level stakeholders and families will primarily be held in person, depending on public health guidelines at the time of data collection.

Stakeholder interviews: Within each site, a key set of stakeholders will be identified through the landscape scan. Key stakeholders will include those involved in the operations of either a PHA, an ECE program, or a co-located ECE program in PHA housing in a given community. Within each site, we anticipate conducting up to 16 stakeholder interviews with a mix of virtual or in-person interviews, depending on the preferences of the stakeholders and local public health guidelines.² Potential stakeholders may include: PHA directors, PHA resident advisory board members, PHA supportive service staff, Head Start grantee directors, Pre-K directors, child care resource and referral centers, state child care subsidy office directors, and state Head Start Collaboration Office directors.

² We anticipate one to two interviews per stakeholder group.

We anticipate conducting semi-structured interviews with key stakeholders. Interview questions will address, but not be limited to, the following topics: (1) Whether there is a co-located ECE; (2) If there is a co-located ECE, processes for licensure and quality rating assessments (if applicable); (3) Facilitators and challenges with operating co-located ECE (as applicable); (4) How local ECE policies effect the colocation of ECE and PHAs; (5) How PHAs support families in accessing ECE; (6) Proximity of ECE programs to PHA (e.g., whether the program is in a child care desert or location with many options available); and (7) Characteristics of local ECE programs (e.g., cost, capacity, licensure status, ages served, home- or center-based, and hours of operation).

PHA resident interviews: In-depth interviews are critical to understanding sensitive topics that people might be reluctant to discuss in a group. Given our previous experience with qualitative data collection in various housing programs and contexts, we anticipate that individual interviews will allow us to better understand the specific needs and experiences of families. We plan to work closely with resident advisory boards and key stakeholders in each site to identify the best process for recruiting families to participate in the study. Recruitment strategies will be responsive to local contexts and sensitive to families' preferences. We anticipate recruiting families with diverse needs and experiences, including variation in child age, employment status, and childcare arrangements. We will work with the resident advisory board, as applicable, to vet interview questions prior to data collection.

We anticipate conducting semi-structured interviews with residents. Interview questions will address, but not be limited to, the following topics: (1) ECE needs, preferences, and use; (2) What families look for in terms of the quality of care; (3) Facilitators and barriers to accessing ECE (e.g., cost, location, etc.), (4) Interest and use of co-located ECE programs; and (5) Support received from PHAs in accessing ECE.

This Federal Register Notice provides an opportunity to comment on the data collection instruments and associated materials to be administered to the participants in the Study of Childcare in Public Housing.

Respondents: Public.

Information collection | Number of respondents | Frequency of response | Responses per annum | Burden hour per response | Annual burden hours | Hourly cost per response | Annual cost
Consent Form for Families Living in Public Housing Developments (Appendix B) | 108 | 1 | 108 | 0.16 | 17.28 | $10.62 | $183.51
Constituent Consent Form (Appendix C) | 96 | 1 | 96 | 0.16 | 15.36 | 43.33 | 665.55
Interviews with Housing Constituents (Appendix D) | 24 | 1 | 24 | 0.83 | 19.92 | 43.33 | 863.13
Interviews with CC&R Administrators (Appendix E) | 24 | 1 | 24 | 0.83 | 19.92 | 43.33 | 863.13
Interviews with CCDF State Administrators and HSCO Directors (Appendix F) | 24 | 1 | 24 | 0.83 | 19.92 | 43.33 | 863.13
Interviews with Co-Located ECE Program Directors (Appendix G) | 24 | 1 | 24 | 0.83 | 19.92 | 43.33 | 863.13
Interviews with Families Living in Public Housing Developments (Appendix H) | 108 | 1 | 108 | 0.83 | 89.64 | 10.62 | 951.98
Total |  |  |  |  | 201.96 |  | 5,253.57

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Anna P. Guido,
Chief Data Officer, Department Reports Management Office, Office of Policy Development and Research.

[FR Doc. 2023-20717 Filed 9-22-23; 8:45 am]

BILLING CODE 4210-67-P